DEPARTMENT OF COMMERCE

Economics and Statistics Administration

Performance Review Board Membership

AGENCY: Economics and Statistics Administration, Commerce.

ACTION: Performance Review Board membership.

SUMMARY: Below is a listing of individuals who are eligible to serve on the Performance Review Board in accordance with the Economics and Statistics Administration Senior Executive Service (SES) Performance Appraisal System:

William G. Barron

Nancy A. Potok

John H. Thompson

Theodore A. Johnson

Richard W. Swartz

Marvin D. Raines

Frederick T. Knickerbocker

Thomas L. Mesenbourg

Preston J. Waite

Nancy M. Gordon

William G. Bostic, Jr.

Chester E. Bowie

Cynthia Z. F. Clark

John F. Long

C. Harvey Monk

Walter C. Odom, Jr.

Judith N. Petty

Tommy Wright

Steve J. Landefeld

Rosemary D. Marcuss

Hugh W. Knox

Ralph H. Kozlow

Brent R. Moton

Sumiye O. Okubo

Suzette Kern

Carl E. Cox

Katherine Wallman

Dated: September 10, 2001.
James K. White,
Associate Under Secretary for Management, Chair, Performance Review Board.

[FR Doc. 01-23281 Filed 9-18-01; 8:45 am]

BILLING CODE 3510-BS-M